DEPARTMENT OF TRANSPORTATION

Federal Railroad Administration

Safety Advisory 2009-01

AGENCY: Federal Railroad Administration (FRA), DOT.

ACTION: Notice of safety advisory; side sill failure of ACF Center Flow® Covered Hopper Cars.

SUMMARY: FRA is recommending inspection and, when necessary, repair of American Car and Foundry (ACF) Center Flow® Covered Hopper Cars, when appropriate. These cars have a history of side sill failure. On April 16, 2008, FRA was notified that car CSXT 254526, an ACF Center Flow® Covered Hopper Car, experienced a catastrophic side sill failure. Both sides of the side sill, the side sheet, and the roof fractured. As a result, the A-end of the car was pulled away from the rest of the car body.

FOR FURTHER INFORMATION CONTACT: Tom Blankenship, Mechanical Engineer, MP&E Division (RRS-14); FRA Office of Safety Assurance and Compliance, 1200 New Jersey Avenue, SE., Washington, DC 20590, telephone: (202) 493-6446.

SUPPLEMENTARY INFORMATION: ACF Center Flow® Covered Hopper Cars have a history of side sill failures. Records from 1999 indicate ACF has constructed approximately 120,000 center flow cars since 1978 using this side sill design. On May 14, 1979, the Association of American Railroads (AAR) issued Circular Letter c-5162 notifying railroads that a number of ACF Center Flow® Covered Hopper Cars were discovered with side sill cracks, and recommended that the cars be inspected. ACF issued Procedure Number P064, “Maintenance of Side Sills-Body Bolster Area,” in 1989, providing detailed instructions for inspection and repair of all ACF Center Flow® Covered Hopper Cars. On February 19, 1999, AAR issued Maintenance Advisory MA-53, (c-8991), advising the industry of additional side sill failures on ACF Center Flow® Covered Hopper Cars.

As a result of the above-referenced incident that occurred on April 16, 2008, CSX Transportation, Inc., (CSXT) has recently taken additional action by issuing inspection and repair instructions for its cars (CSXT Car Maintenance Instruction 13-1004, dated April 28, 2008). The instructions provide guidance on how to properly inspect and handle the ACF Center Flow® Covered Hopper Cars.

Recommended Action: Recognizing the need to ensure safety, FRA recommends that railroads and car owners that operate the ACF Center Flow® Covered Hopper Cars inspect, and when necessary, repair and reinforce the side sills (at four locations) using ACF Procedure Number P064 (dated January 31, 1994). This ACF Procedure Number P063 may be obtained by contacting Mr. Roger Dalske,Manager-Product Engineering, American Railcar Industries, at (636) 940-6185;e-mail: rdalske@americanrailcar.com.

FRA may modify this Safety Advisory (2009-01), issue additional safety advisories, or take other appropriate action it deems necessary to ensure the highest level of safety on the Nation's railroads.

Issued in Washington, DC, on March 24, 2009.
Grady C. Cothen, Jr.,
Acting Associate Administrator for Railroad Safety/Chief Safety Officer.

[FR Doc. E9-6919 Filed 3-26-09; 8:45 am]

BILLING CODE 4910-06-P